DEPARTMENT OF THE INTERIOR

Office of Natural Resources Revenue

[Docket No. ONRR-2014-0002; DS63602000 DR2PS0000.PX8000 156D0102R2]

Agency Information Collection Activities: United States Extractive Industries Transparency Initiative (USEITI) Revenue Information Collection—OMB Control Number 1012—0NEW; Comment Request

AGENCY: Office of Natural Resources Revenue (ONRR), Interior.

ACTION: Notice for OMB approval.

SUMMARY: To comply with the Paperwork Reduction Act of 1995 (PRA), we are notifying the public that we have submitted this Information Collection Request (ICR) to the Office of Management and Budget (OMB) for review and approval. This ICR covers the paperwork requirements for participation in the United States implementation of the Extractive Industries Transparency Initiative (USEITI). This notice also provides the public a second opportunity to comment on the paperwork burden of these regulatory requirements.

DATES: OMB has up to 60 days to approve or disapprove this information collection request but may respond after 30 days; therefore, you should submit your public comments to OMB by June 15, 2015 for the assurance of consideration.

ADDRESSES: You may submit your written comments directly to the Desk Officer for the Department of the Interior (OMB Control Number 1012—NEW), Office of Information and Regulatory Affairs, OMB, by email to OIRA_Submission@omb.eop.gov or telefax at (202) 395-5806. Please also mail a copy of your comments to Mr. Luis Aguilar, Regulatory Specialist, ONRR, P.O. Box 25165, MS 61030A, Denver, Colorado 80225-0165, or email Luis.Aguilar@onrr.gov. Please reference OMB Control Number 1012—NEW in your comments.

FOR FURTHER INFORMATION CONTACT: For questions on technical issues, contact Jonathan Swedin, Program & Performance Analysis, ONRR, telephone (303) 231-3028, or email jonathan.swedin@onrr.gov. For other questions, contact Mr. Luis Aguilar, telephone (303) 231-3418, or email luis.aguilar@onrr.gov. You may also contact Mr. Aguilar to obtain copies (free of charge) of the ICR and any associated forms. You may also review the information collection request online at http://www.reginfo.gov/public/do/PRAMain.

SUPPLEMENTARY INFORMATION:

1. Abstract

The Secretary of the U.S. Department of the Interior is responsible for mineral resource development on Federal and Indian lands and the Outer Continental Shelf (OCS). Under various laws, the Secretary's responsibility is to manage mineral resources production on Federal and Indian lands and the OCS, collect the royalties and other mineral revenues due, and distribute the funds collected under those laws. ONRR performs the royalty management functions and assists the Secretary in carrying out the Department's responsibility. We have posted those laws pertaining to mineral leases on Federal and Indian lands and the OCS at http://www.onrr.gov/Laws_R_D/PubLaws/default.htm.

In September 2011, President Obama announced the U.S. commitment to domestic implementation of EITI, a key element of the President's Open Government Partnership commitments. President Obama appointed the Secretary of the Interior as the senior U.S. official to lead the USEITI implementation. EITI is a voluntary global effort designed to strengthen transparency, accountability, and public trust for the revenues paid and received for a country's oil, gas, and mineral resources. The Administration renewed its commitment to implement EITI in the December 2013 U.S. Open Government National Action Plan. By signing onto the global EITI standard, the U.S. Government will help ensure that American taxpayers are receiving every dollar due for the extraction of these valuable public resources. The EITI Standard contains the set of requirements that countries need to meet in order to be recognized first as an EITI Candidate and ultimately as an EITI Compliant Country. In March 2014, the U.S. became the first G7 country to achieve Candidate Country status. When fully implemented, EITI will ensure more transparency in how the country's natural resources are governed and also will provide full disclosure of government revenues from its extractive sector.

The following laws and executive initiative are applicable to USEITI, including the Secretary's and ONRR's management of mineral resource production, revenue, and information disclosure obligations:

• U.S. Open Government National Action Plan

• Freedom of Information Act, as amended (5 U.S.C. 552)

• Outer Continental Shelf Lands Act, as amended (43 U.S.C. 1331-56b), including provisions of the Energy Policy Act of 2005 (42 U.S.C. 15801 et seq.)

• Federal Oil and Gas Royalty Management Act of 1982 as amended by the Federal Oil and Gas Royalty Simplification and Fairness Act of 1996 (30 U.S.C. 1701-1759)

• Geothermal Steam Act of 1970 (30 U.S.C. 1001-28)

• Mineral Leasing Act (30 U.S.C 181-287)

• Mineral Leasing Act for Acquired Lands (30 U.S.C 351-60)

General Information

International EITI requirements direct participating governments to publish annual reports to help citizens understand how governments manage their extractive sectors. The U.S. Open Government National Action Plan commits the U.S. to publish the first United States EITI report in 2015 and to achieve EITI compliance in 2016. An Independent Administrator produces the annual reports, which include parallel public disclosures by both the government and companies. These disclosures relate to the payments that companies have made to the government on their oil, gas, and mining development.

In order to produce the USEITI annual reports, the Independent Administrator, in partnership with industry and DOI, created a document called the “USEITI Reporting Form,” including reporting instructions, which provide guidance on how to complete this form. The Independent Administrator will use this form to collect revenue information from extractive companies which paid more than $20 million to ONRR in a given year. The form will collect information on the amounts of royalties, rentals, and other payments related to mineral development that companies have made to the Federal Government. The Independent Administrator will collect this information; however, it will not collect items of a sensitive nature such as proprietary data, Personally Identifiable Information, etc. EITI is a voluntary initiative, and companies are not required to provide the requested information.

OMB Approval

We are requesting OMB's approval to collect this information. This ICR is necessary to successfully implement EITI in the U.S. Not collecting this information would limit the Secretary's ability to implement the U.S. Open Government National Action Plan and could prevent the Independent Administrator from creating and completing the annual USEITI report. If the annual USEITI report is not completed, the U.S. will not become an EITI Compliant Country.

II. Data

Title: United States Extractive Industries Transparency Initiative (USEITI) Revenue Information Collection.

OMB Control Number: 1012—NEW.

Bureau Form Number: None.

Frequency: Annually.

Estimated Number and Description of Respondents: 76 extractive companies that paid $20 million or more to ONRR in calendar year 2013.

Estimated Annual Reporting and Recordkeeping “Hour” Burden: 6,384 hours. We estimate that each response will take approximately 84 hours for each company to complete. We have not included in our estimates certain requirements performed in the normal course of business and considered usual and customary.

Estimated Annual Reporting and Recordkeeping “Non-hour” Cost Burden: We have identified no “non-hour” cost burden associated with the collection of information.

Public Disclosure Statement: The PRA (44 U.S.C. 3501 et seq.) provides that an agency may not conduct or sponsor, and a person is not required to respond to, a collection of information unless it displays a currently valid OMB control number.

III. Request for Comments

Section 3506(c)(2)(A) of the PRA requires each agency to “* * * publish a 60-day notice in the Federal Register * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on December 18, 2014 (79 FR 75583) announcing that we would submit this ICR to OMB for approval. The notice provided the required 60-day comment period. We received no comments in response to the notice.

If you wish to comment in response to this notice, you may send your comments to the offices listed under the ADDRESSES section of this notice. OMB has up to 60 days to approve or disapprove the information collection but may respond after 30 days. Therefore, to ensure maximum consideration, OMB should receive public comments by June 15, 2015.

Public Comment Policy: ONRR will post all comments, including names and addresses of respondents at http://www.regulations.gov. Before including Personally Identifiable Information (PII), such as your address, phone number, email address, or other personal information in your comment(s), you should be aware that your entire comment (including PII) may be made available to the public at any time. While you may ask us to withhold PII from public view, we cannot guarantee that we will be able to do so.

Dated: May 12, 2015.
Gregory J. Gould,
Director, Office of Natural Resources Revenue.

[FR Doc. 2015-11799 Filed 5-14-15; 8:45 am]

BILLING CODE 4335-30-P